DEPARTMENT OF ENERGY

Federal Energy Regulatory Commission

[Docket No. CP02-4-000]

Northwest Pipeline Corporation; Notice of Application

October 12, 2001.

Take notice that on October 3, 2001 Northwest Pipeline Corporation (Northwest), 295 Chipeta Way, Salt Lake City, Utah, 84158, filed in Docket No. CP02-4-000, an application, pursuant to Sections 7(c) and 7(b) of the Natural Gas Act and Part 157 of the Federal Energy Regulatory Commission's regulations for a certificate of public convenience and necessity to construct and operate mainline loop and compression facilities (referred to as the Evergreen Expansion Project) and for permission and approval to abandon certain compression facilities, all as more fully set forth in the application which is on file with the Commission and open to public inspection. This filing may be viewed on the Web at http://www.ferc.gov using the “RIMS” link—select “Docket #” and follow the instructions (call (202)208-2222 for assistance).

Specifically, Northwest requests:

(1) A certificate of public convenience and necessity authorizing Northwest to construct and operate: (a) Approximately 27.79 miles of 36-inch mainline loop in four segments in Skagit, King and Pierce Counties, Washington and 83,500 horsepower compression facilities (67,150 ISO horsepower net increase plus 16,350 horsepower replacement compression) at five existing stations in Whatcom, Skagit, Snohomish, Pierce and Lewis Counties, Washington to expand south flow capacity in the Sumas, Washington to Chehalis, Washington corridor (“Sumas-Chehalis Corridor”) by up to approximately 220,514 Dth/d to help provide 276,625 Dth/d of long-term, incremental firm transportation service under Rate Schedule TF-1, commencing June 1, 2003; (b) compression facilities (24,430 ISO horsepower increase) at five existing stations in Clark, Skamania, Klickitat and Benton Counties, Washington to expand north flow capacity in the Plymouth, Washington to Washougal, Washington corridor (“Columbia Gorge Corridor”) by approximately 57,000 Dth/d to replace approximately 54,000 Dth/d of north flow design day displacement capacity required for existing long-term Rate Schedule TF-1 service and reduce the operational flow order (“OFO”) risks for existing firm services through that corridor; and (c) associated system enhancement facilities for existing shippers in the Sumas-Chehalis Corridor, consisting of the required lowering of an existing segment of partially exposed mainline loop at a stream crossing, the required overhaul replacements of two existing turbines, tie-ins of two existing laterals to the new loops, and modification of an existing mainline valve manifold for north flow operation optionality at one of the compressor stations;

(2) Permission and approval to abandon 16,350 horsepower compression facilities that will be replaced by the proposed new facilities and to abandon 54,000 Dth/d of existing Rate Schedule TF-1 north flow design day displacement capacity in the Columbia Gorge Corridor that will be replaced by the proposed additional physical capacity;

(3) Approval of levelized, incremental 15-year and 25-year term transportation rates, and associated incremental compressor fuel reimbursement provisions and factors, for 276,625 Dth/d of incremental Rate Schedule TF-1 service in the Sumas-Chehalis Corridor;

(4) An up-front determination that the portions of the Evergreen Expansion Project that are designed to benefit existing customers, rather than the new incremental transportation shippers, will qualify for rolled-in rate treatment; and

(5) Approval of the proposed regulatory asset accounting treatment for the differences between book depreciation for the proposed incrementally-priced facilities and the depreciation component of the proposed levelized incremental transportation rates.

As a result of an open season for new firm service in the Sumas-Chehalis Corridor, Northwest states it entered into long-term transportation agreements under Rate Schedule TF-1 with five shippers (“Evergreen Shippers”), for a total of 276,625 Dth/d of capacity from Sumas, commencing June 1, 2003, with a primary 15-year term for 186,625 Dth/d and a primary 25-year term for 90,000 Dth/d, with primary delivery points at mainline interconnects with new delivery laterals that are independently being built to connect new and planned gas-fired power plants to Northwest's system in Washington.

Northwest states that the proposed facilities will provide up to approximately 220,514 Dth/d of incremental south flow capacity in the Sumas-Chehalis Corridor. The remainder of the capacity required to serve the new long-term shippers will be provided by 14,789 Dth/d of existing “long-term” Sumas to Wyoming capacity that will be relinquished as a result of the open season, plus 41,322 Dth/d of existing available capacity from Sumas that Northwest has been marketing on a short-term basis.

Further, Northwest states it has agreed, pursuant to a settlement agreement between Northwest and most of its major customers, to build facilities to reduce its north flow design day displacement capacity reliance through the Columbia Gorge Corridor and the customers have agreed to support rolled-in rate treatment for the approximately 87% portion of such facilities that is not allocable to the Evergreen Shippers. Northwest plans to complete the proposed facilities by June 1, 2003 in the Sumas-Chehalis Corridor and by November 1, 2003 in the Columbia Gorge Corridor. Northwest requests that the Commission issue a preliminary determination on non-environmental issues by April 2002 and a final order in this proceeding by no later than July 2002.

Northwest states that the estimated total cost of the proposed facilities is approximately $239.8 million, comprised of $197.4 million for the Sumas-Chehalis Corridor facilities ($194.0 million for incremental service plus $3.4 million for existing system reliability/flexibility enhancements) and $42.4 million for the Columbia Gorge Corridor facilities ($5.2 million allocable to the incremental shippers plus $37.2 million for existing system displacement capacity replacement).

On a 100% load factor basis and exclusive of surcharges and fuel, Northwest's proposed initial incremental rates for the 15-year service are $0.41656 per Dth for the June through October 2003 period and $0.42721 per Dth thereafter, and the proposed incremental rates for the 25-year service are $0.39794 per Dth for the first period and $0.40795 per Dth thereafter. These rates include a $0.03 per Dth volumetric charge, with a reservation charge for the remainder. The initial incremental compressor fuel in-kind reimbursement factor for the Evergreen Shippers is proposed to be 2.15%, plus the then applicable system lost and unaccounted for gas factor.

The portions of the project that are designed to benefit existing customers by reducing displacement reliance, mitigating associated OFO exposure, and enhancing existing service flexibility and reliability are proposed to be treated on a rolled-in basis consistent with Commission policy. The illustrative first year, rolled-in rate impact is approximately $0.00879 per Dth for Columbia Gorge Corridor facilities and approximately $0.00077 per Dth for Sumas-Chehalis Corridor facilities.

Any questions regarding this application should be directed to Mr. Gary Kotter, Manager, Certificates, Northwest Pipeline Corporation, P.O. Box 58900, Salt Lake City, Utah 84158-0900 or call (801) 584-7117.

There are two ways to become involved in the Commission's review of this project. First, any person wishing to obtain legal status by becoming a party to the proceedings for this project should, on or before November 2, 2001, file with the Federal Energy Regulatory Commission, 888 First Street, NE, Washington, DC 20426, a motion to intervene in accordance with the requirements of the Commission's Rules of Practice and Procedure (18 CFR 385.214 or 385.211) and the Regulations under the NGA (18 CFR 157.10). A person obtaining party status will be placed on the service list maintained by the Secretary of the Commission and will receive copies of all documents filed by the applicant and by all other parties. A party must submit 14 copies of filings made with the Commission and must mail a copy to the applicant and to every other party in the proceeding. Only parties to the proceeding can ask for court review of Commission orders in the proceeding.

However, a person does not have to intervene in order to have comments considered. The second way to participate is by filing with the Secretary of the Commission, as soon as possible, an original and two copies of comments in support of or in opposition to this project. The Commission will consider these comments in determining the appropriate action to be taken, but the filing of a comment alone will not serve to make the filer a party to the proceeding. The Commission's rules require that persons filing comments in opposition to the project provide copies of their protests only to the party or parties directly involved in the protest.

Persons who wish to comment only on the environmental review of this project should submit an original and two copies of their comments to the Secretary of the Commission. Environmental commenters will be placed on the Commission's environmental mailing list, will receive copies of the environmental documents, and will be notified of meetings associated with the Commission's environmental review process. Environmental commenters will not be required to serve copies of filed documents on all other parties. However, the non-party commenters will not receive copies of all documents filed by other parties or issued by the Commission (except for the mailing of environmental documents issued by the Commission) and will not have the right to seek court review of the Commission's final order.

The Commission may issue a preliminary determination on non-environmental issues prior to the completion of its review of the environmental aspects of the project. This preliminary determination typically considers such issues as the need for the project and its economic effect on existing customers of the applicant, on other pipelines in the area, and on landowners and communities. For example, the Commission considers the extent to which the applicant may need to exercise eminent domain to obtain rights-of-way for the proposed project and balances that against the non-environmental benefits to be provided by the project. Therefore, if a person has comments on community and landowner impacts from this proposal, it is important either to file comments or to intervene as early in the process as possible.

Comments, protests, and interventions may be filed electronically via the Internet in lieu of paper. See, 18 CFR 385.2001(a)(1)(iii) and the instructions on the Commission's Web site at http://www.ferc.fed.us/efi/doorbell.htm.

If the Commission decides to set the application for a formal hearing before an Administrative Law Judge, the Commission will issue another notice describing that process. At the end of the Commission's review process, a final Commission order approving or denying a certificate will be issued.

David P. Boergers,
Secretary.

[FR Doc. 01-26255 Filed 10-17-01; 8:45 am]

BILLING CODE 6717-01-P